DEPARTMENT OF THE INTERIOR

U.S. Geological Survey

[GX12NM00COM0000]

Agency Information Collection Activities: Comment Request

AGENCY: U.S. Geological Survey (USGS), Interior.

ACTION: Notice of extension of a currently approved information collection, 1028-0094, Energy Cooperatives to Support the National Coal Resources Data System.

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This collection is scheduled to expire on January 31, 2013.

DATES: Submit written comments by December 11, 2012.

ADDRESSES: You may submit comments on this information collection to the Information Collection Clearance Officer, U.S. Geological Survey, 12201 Sunrise Valley Drive, MS 807, Reston, VA 20192 (mail); (703) 648-7199 (fax); or smbaloch@usgs.gov (email). Please Reference Information 1028-0094 in the subject line.

For Further Information Please Contact: Joe East, Geologist, 703-648-6450 (phone); jeast@usgs.gov (email), or 12201 Sunrise Valley Drive, MS 956, Reston, VA 20192 (mail).

SUPPLEMENTARY INFORMATION:

I. Abstract

The primary objective of the National Coal Resources Data System (NCRDS) is to advance the understanding of the energy endowment of the United States (U.S.) by gathering and organizing digital geologic information related to coal, coalbed gas, shale gas and other energy resources and related information regarding these resources. These data are needed to support regional or national assessments concerning coal and coal bed gas occurrences. Requesting external cooperation is the best way for NCRDS to collect energy data and perform research and analyses on the characterization of coals and organic-rich shale, and obtain other information (including geophysical or seismic data, sample collection for generation of thermal maturity data) that can be used in solid-fuel resource assessments and related studies.

The USGS will issue a call for proposals to support researchers from State Geological Surveys and associated accredited Universities that can provide geologic data to support the NCRDS and other energy assessment projects being conducted by the Energy Resources Program. Data submitted to NCRDS by external cooperators constitute more than two-thirds of the USGS point-source stratigraphic database (USTRAT) on coal occurrence. In 2012, NCRDS supported 30 projects in 23 States. This program is conducted under various authorities, including 30 U.S.C. 208-1, 42 U.S.C. 15801, and 43 U.S.C. 31 et seq. This collection will consist of applications, proposals and reports (annual and final).

II. Data

OMB Control Number: 1028-094.

Title: Energy Cooperatives to Support the National Coal Resources Data System (NCRDS).

Respondent Obligation: Required to obtain or retain benefits.

Frequency of Collection: One time every 5 years for applications and final reports; annually for progress reports.

Affected Public: Individuals; State, local and tribal governments; State Geological Surveys, universities, and businesses.

Estimated Annual burden hours: 367.

Estimated Annual Number of Respondents: 26.

Estimated Annual Number of Responses: 35 (9 applications 26 reports).

Estimated Annual Reporting and Recordkeeping “Non-Hour Cost”: None.

III. Public Disclosure Statement

The PRA (44 U.S.C. 3501, et seq.) provides that an agency may not conduct or sponsor and you are not required to respond to a collection of information unless it displays a currently valid OMB control number.

IV. Comments

We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: October 4, 2012.
Brenda Pierce,
Program Coordinator, USGS Energy Resources Program.

[FR Doc. 2012-25213 Filed 10-11-12; 8:45 am]

BILLING CODE 4311-AM-P